DEPARTMENT OF HEALTH AND HUMAN SERVICES

Centers for Disease Control and Prevention

[30Day-15-15AMG]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

FoodNet Population Survey—Existing Collection In Use Without an OMB Control Number—National Center for Emerging and Zoonotic Infectious Diseases, Centers for Disease Control and Prevention (CDC).

Background and Brief Description

Foodborne illnesses represent a significant public health burden in the United States. It is estimated that each year, 48 million Americans (1 in 6) become ill, 128,000 are hospitalized, and 3,000 die as the result of a foodborne illness. Since 1996, the Foodborne Diseases Active Surveillance Network (FoodNet) has conducted active population-based surveillance for Campylobacter, Cryptosporidium, Cyclospora, Listeria, Salmonella, Shiga toxin-producing Escherichia coli O157 and non-O157, Shigella, Vibrio, and Yersinia infections. Data from FoodNet serve as the nation's “report card” on food safety by monitoring progress toward CDC Healthy People 2020 objectives.

Evaluation of efforts to control foodborne illnesses can only be done effectively if there is an accurate estimate of the total number of illness that occur and if these estimates are recalculated and monitored over time. Total burden estimates of begin with an accurate and reliable estimate of the number of acute gastrointestinal illness episodes that occur in the general community. To more precisely estimate this and to describe the frequency of important exposures associated with illness, FoodNet created the Population Survey.

The FoodNet Population Survey is a survey of persons residing in the surveillance area. Data are collected on the prevalence and severity of acute gastrointestinal illness in the general population, describe common symptoms associated with diarrhea, and determine the proportion of persons with diarrhea who seek medical care. The survey also collects data on exposures (e.g. food, water, animal contact) commonly associated with foodborne illness. Information about food exposures in the general public has proved invaluable during outbreak investigations. The ability to compare exposures reported by outbreak cases to the `background' exposure in the general population allows investigators to more quickly pinpoint a source and enact control measures. To date, five 12-month cycles of the survey have been completed without an existing OMB number: 1996-1997, 1998-1999, 2000-2001, 2002-2003, and 2006-2007. Data has been shared with participating state health departments and multiple programs at CDC, is available to the public through a summary report posted to the FoodNet Web site, and also available via individual data requests. More than two dozen manuscripts highlighting population survey data have been published. We seek to continue this important work.

The total annual burden is 6,000 hours.

Estimated Annualized Burden Hours
Type of respondents | Form name | Number of respondents | Number of responses per respondent | Average burden per response (in hours)
U.S. General Population | Population Survey | 18,000 | 1 | 20/60

Leroy A. Richardson,
Chief, Information Collection Review Office, Office of Scientific Integrity, Office of the Associate Director for Science, Office of the Director, Centers for Disease Control and Prevention.

[FR Doc. 2015-20811 Filed 8-21-15; 8:45 am]

BILLING CODE 4163-18-P